DEPARTMENT OF COMMERCE

Foreign-Trade Zones Board

[Docket 31-2001]

Foreign-Trade Zone 171—Liberty County, Texas; Application for Expansion

An application has been submitted to the Foreign-Trade Zones (FTZ) Board (the Board) by the Liberty County Economic Development Corporation, grantee of FTZ 171, requesting authority to expand its zone in Liberty County, Texas, adjacent to the Houston Customs port of entry. The application was submitted pursuant to the provisions of the Foreign-Trade Zones Act, as amended, (19 U.S.C. 81a-81u), and the regulations of the Board (15 CFR Part 400). It was formally filed on July 3, 2001.

FTZ 171 was approved on January 4, 1991 (Board Order 501, 56 FR 1166, 1/11/91) and expanded on August 9, 1999 (Board Order 1049, 64 FR 46181, 8/24/99). The zone project currently consists of 5 sites (834 acres) in Liberty County: Site 1 (150 acres)—City of Cleveland's International Industrial Park on Highway FM 2025 west of U.S. Highway 59; Site 2 (50 acres) located between West Bay Road and FM 1405 within the western portion of the 15,000-acre Cedar Crossing Industrial Park in the City of Baytown (Chambers County) (expires 7/15/02); Site 3 (27 acres)—industrial park on the Trinity River some 2 miles south of U.S. Highway 90, City of Liberty; Site 4 (24 acres)—within the Cleveland Municipal Airport facility, Highway FM 787, Liberty County; and, Site 5 (583 acres)—Sjolander Plastics Storage Railyard facility, adjacent to Highway 146, approximately 2 miles south of Dayton (Liberty County).

The applicant is now requesting authority to expand existing Site 2 to include an additional 150 acres at the Cedar Crossing Industrial Park in Baytown. A temporary boundary modification was approved on March 16, 2001 (A(27f)-11-2001), removing the original Site 2 at the Port of Liberty County Industrial Park (45 acres) from zone status. The applicant is also requesting that the original Site 2 be restored to zone status and that the Cedar Crossing site be redesignated as Site 6 on a permanent basis. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is September 10, 2001). Rebuttal comments in response to material submitted during the foregoing period may be submitted during the subsequent 15-day period (to September 24, 2001).

A copy of the application and accompanying exhibits will be available for public inspection at each of the following locations:

U.S. Department of Commerce, Export Assistance Center, 500 Dallas, #1160, Houston, TX 77002

Office of the Executive Secretary, Foreign-Trade Zones Board, Room 4008, U.S. Department of Commerce, 14th & Pennsylvania Avenue, NW, Washington, DC 20230

Dated: July 3, 2001.
Dennis Puccinelli,
Executive Secretary.

[FR Doc. 01-17374 Filed 7-10-01; 8:45 am]

BILLING CODE 3510-DS-P